DEPARTMENT OF THE INTERIOR

Fish and Wildlife Service

[FWS-R8-ES-2009-N116; 81440-1112-0000-F2]

Endangered and Threatened Wildlife and Plants; Permits, Beacon Solar Energy Project, Kern County, CA

AGENCY: Fish and Wildlife Service, Interior.

ACTION: Notice of intent to undertake scoping for an environmental document (Environmental Assessment or Environmental Impact Statement) related to a habitat conservation plan for the proposed Beacon Solar Energy Project.

SUMMARY: We, the U.S. Fish and Wildlife Service (Service), advise the public that we intend to conduct public scoping under the National Environmental Policy Act of 1969 (NEPA) to gather information necessary to help develop a NEPA document in connection with a proposed Habitat Conservation Plan (HCP) for the Beacon Solar Energy Project (Beacon HCP), currently under development by Beacon Solar LLC (the applicant). To be implemented near California City, in Kern County, California, the proposed Beacon HCP forms part of an incidental take permit application under the Endangered Species Act of 1973, as amended (Act). The requested permit term is 45 years. We provide this notice to obtain suggestions, comments, and useful information from other agencies and the public on the scope of the document, including the significant issues deserving of study, the range of alternatives, and the range of impacts to be considered.

DATES: We must receive any written comments on or before July 17, 2009.

ADDRESSES: Written Submissions: Please address written information, comments, or questions related to the preparation of the EA or EIS to Diane Noda, Field Supervisor, U.S. Fish and Wildlife Service, Ventura Fish and Wildlife Office, 2493 Portola Road, Suite B, Ventura, CA 93003. Alternatively, you may fax comments to (805) 644-3958.

FOR FURTHER INFORMATION CONTACT: Judy Hohman, Fish and Wildlife Biologist, (see ADDRESSES), telephone (805) 644-1766, extension 304.

SUPPLEMENTARY INFORMATION:

Background

We intend to scope under NEPA (42 U.S.C. 4321 et seq.) to gather information necessary to help develop a NEPA document in connection with our proposed action or reaching a permit decision on the Beacon Solar Energy Project's proposed HCP. The HCP forms part of an incidental take permit application under the Act (16 U.S.C. 1531 et seq.). We provide this notice to obtain suggestions and information on the scope of issues and alternatives to be considered in the NEPA document. An EA is prepared for Federal actions that will have a less than significant effect on all resources impacted in the human environment, or to determine whether an EIS should be prepared. An EIS is prepared for Federal actions that will have a significant impact on one or more resources in the human environment. We will determine if an EA or an EIS will be prepared based on the public comments received and the complexity of issues identified during the scoping phase of the NEPA process.

Section 9 of the Act and Federal regulations prohibit the “take” of fish and wildlife species listed as endangered or threatened. Take of federally listed fish or wildlife is defined under the Act to include the following activities: To harass, harm, pursue, hunt, shoot, wound, kill, trap, capture, or collect, or to attempt to engage in any such conduct (16 U.S.C. 1532). “Harm” in the definition of take includes significant habitat modification or degradation that kills or injures listed wildlife by significantly impairing essential behavioral patterns, including breeding, feeding, or sheltering (50 CFR 17.3(c)). Under section 10(a) of the Act, we may issue permits to authorize “incidental take” of listed species. Any proposed incidental take must be incidental to otherwise lawful activities, not appreciably reduce the likelihood of the survival and recovery of the species in the wild, and minimize and mitigate the impacts of such take to the maximum extent practicable. In addition, the applicant must prepare a HCP describing the impact that will likely result from such taking, the strategy for minimizing and mitigating the incidental take, the funding available to implement such steps, alternatives to such taking, and the reason such alternatives are not being implemented. To obtain an incidental take permit, an applicant must prepare a HCP that meets the issuance criteria established by the Service (50 CFR 17.22(b)(2)). Should a permit be issued, the permit would include assurances under the Services' “No Surprises” regulations (50 CFR 17.22(b)(5) and 17.32(b)(5)). Regulations governing permits for threatened and endangered species, respectively, are at 50 CFR 13 and 50 CFR 17.

The issuance of an incidental take permit is a Federal discretionary action. Therefore, we must comply with NEPA and ensure that environmental information is available to public officials and citizens before making a decision on issuing the permit.

Beacon HCP

The applicant is proposing to construct, operate, and maintain a 250-megawatt (MW) renewable-energy solar thermal powerplant for 45 years on approximately 2,030 contiguous acres of retired agricultural land and Mojave desert scrub land. Specific covered activities associated with project construction include: deep trenching, grading, and filling to prepare the site for the installation of an array of solar collectors, construction of power generating equipment, cooling towers, evaporation ponds, administrative buildings, an interconnecting transmission line, an underground natural gas pipeline (or propane tanks on site); constructing and maintaining access roads, rechanneling a wash from the project site to the perimeter of the site, and constructing a fence around most of the 2,030 acre project site. Specific activities associated with operation and maintenance of the solar project include: maintaining roads, washing and replacing solar collectors, maintaining the rerouted channel, replacing electrical transmission line components, maintaining fences, and removal of all vegetation on the 2,030 acres. Construction is expected to take up to 36 months. Facility operation is proposed for approximately 30 years. The facility decommissioning and habitat rehabilitation is expected to be completed before the end of the proposed 45-year permit term.

The solar power plant would use an array of solar collectors, to track the sun's movement and collect solar energy. Energy collected from the solar collectors would heat transfer fluid in a linear receiver to generate steam that drives a steam turbine to generate electrical power. The power would be carried from the 2,030-acre project site to an existing Los Angeles Department of Water and Power (LADWP) high-voltage transmission line by an interconnecting transmission line. A wet cooling tower would be constructed to provide cooling for the power generating equipment. The applicant anticipates that potential sources of water for construction, operation, and decommissioning of the Beacon Solar Facility would include using existing wells on the property previously used for irrigating crops, and/or drilling new wells near Koehn Dry Lake, and/or using tertiary treated waste water discharged from the wastewater treatment facilities located in the cities of Rosamond and/or California City. A lined 10-to-40-acre evaporation pond would be used to collect the waste stream from the project's cooling water system. The evaporation pond would use the sun's energy to remove water from the cooling system waste, after which, the concentrated, dewatered solid waste would be transported off site for disposal, likely to a disposal site already permitted by the State of California.

The solar array field and natural gas pipeline, as well as part of the interconnecting transmission line and related power plant facilities, would be located east of State Route 14, while a relatively small area west of the highway would be used for the remaining portion of the interconnecting transmission line with an existing LADWP high-voltage transmission line at LADWP's existing Barren Ridge Switching Station. The proposed facilities would be located within a 100-year flood plain.

Species proposed for coverage in the Beacon HCP are those that occur within the HCP Planning Area, may be affected by the proposed covered activities, and are currently listed as federally threatened or endangered or may become federally listed during the term of the proposed permit. The Beacon HCP proposes to addresses three covered species: The federally threatened desert tortoise (Gopherus agassizii), the State threatened Mohave ground squirrel (Spermophilus mohavensis), and the State species of special concern western burrowing owl (Athene cunicularia). The construction, operation, maintenance, and decommissioning (disassembly) of the proposed project and rehabilitation (habitat restoration) of the proposed project site would likely result in incidental take of the desert tortoise, as well as impacts to the Mohave ground squirrel and western burrowing owl. Therefore, these three species are proposed to be covered in the Beacon HCP. Take may occur from vehicle collisions, capture and handlings of protected species to move them from harm's way, and attraction of common ravens (predators to desert tortoises) to the project site by food, water, and trash from human sources. The potential risk to migratory birds of toxic salts in evaporation ponds is an additional biological issue.

The area proposed for the solar array would be located in an area previously used for intensive agriculture. This area does not provide suitable habitat to support the desert tortoises. A small portion of the proposed project, the interconnecting transmission line from the solar array to an existing high-voltage transmission line, is located in suitable habitat that is occupied by desert tortoises. The proposed Beacon HCP would provide for the long-term conservation and management of the covered species and their habitats within the HCP's planning area. The applicant is presently proposing to preserve in perpetuity 115 to 118 acres of suitable Mohave ground squirrel habitat at an off-site location. This 115- to-118-acre preserve would also include approximately 25 acres of suitable desert tortoise habitat as well as 20 acres of suitable western burrowing owl habitat. In addition, the applicant is proposing a 6-acre on site conservation easement for the western burrowing owl.

National Environmental Policy Act

The EA or EIS will consider the effects of issuing an incidental take permit for the proposed HCP and for a reasonable range of alternatives. These alternatives might vary by the location of the solar energy project; the number of covered species; the covered activities; different strategies for avoiding, minimizing, and mitigating the impacts of incidental take; the amount of land preserved or restored; the type of species conservation efforts; or a combination of these factors. A detailed description of all reasonable alternatives, including the proposed action, will be included in the EA or EIS. A No-Action alternative will be included in the analysis of the alternatives considered.

The EA or EIS will identify all direct, indirect, and cumulative impacts of the proposed action and each alternative on the significant issues identified through this public scoping process; these issues will likely concern biological resources, land use, air quality, water resources, ground water, cultural resources, socioeconomics, visual resources, noise, traffic, geology, and soils. The proposed action and each alternative will identify avoidance, minimization, and mitigation measures to reduce environmental impacts, and will mitigate species incidental-take to the maximum extent practicable.

We anticipate that a draft EA or draft EIS and the associated draft Beacon Solar Energy Project HCP will be available in late 2009 and will have a public review period. The preparation and public review of the EA or EIS will be conducted in accordance with the requirements of NEPA, its implementing regulations (40 CFR 1500-1508; found at (http://www.legal.gsa.gov), other applicable Council on Environmental Quality regulations and NEPA guidance and our policies and procedures on compliance with those laws and regulations.

We furnish this notice in accordance with 40 CFR 1501.2, 1501.7 1506.6, and 1508.22 to obtain suggestions, comments, and useful information from other agencies and from the public on the scope of the EA or EIS, including identification of significant issues deserving of study, the range of actions, the range of alternatives, and the range of impacts to be considered. We welcome written comments from all interested parties to ensure that the full range of issues related to the permit request is identified. You may submit written comments by mail or facsimile transmission (see ADDRESSES). All comments we receive, including names and addresses, will become part of the official administrative record for this NEPA document. Before including your address, phone number, e-mail address, or other personal identifying information in your scoping comment, you should be aware that your entire comment—including your personal identifying information—may be publicly available at any time. While you can ask us in your comment to withhold your personal identifying information from public review, we cannot guarantee that we will be able to do so.

Ken McDermond,
Deputy Regional Director, Pacific Southwest Region, U.S. Fish and Wildlife Service.

[FR Doc. E9-14215 Filed 6-16-09; 8:45 am]

BILLING CODE 4310-55-P